DEPARTMENT OF HOUSING AND URBAN DEVELOPMENT

2 CFR Part 2400

24 CFR Parts 84 and 85

[Docket No. FR-5783-C-01]

RIN 2501-AD66

Federal Awarding Agency Regulatory Implementation of Office of Management and Budget's Uniform Administrative Requirements, Cost Principles, and Audit Requirements for Federal Awards; Correction of RIN Number

AGENCY: Office of the General Counsel, HUD.

ACTION: Final rule; correction.

SUMMARY: This document advises that HUD's portion of the governmentwide joint interim rule that implements the Uniform Administrative Requirements, Cost Principles, and Audit Requirements for Federal Awards, published on December 19, 2014, displayed an incorrect RIN number. This document advises of the correct RIN number, 2501-AD66, which is also shown above in the heading of this document.

DATES: Effective April 7, 2015.

FOR FURTHER INFORMATION CONTACT: Aaron Santa Anna, Assistant General Counsel for Regulations, Office of General Counsel, Department of Housing and Urban Development, 451 7th Street SW., Room 10282, Washington, DC 20410-0500; telephone number 202-708-1793 (this is not a toll-free number). Hearing- and speech-impaired persons may access this number through TTY by calling the Federal Relay Service at 800-877-8339 (this is a toll-free number).

SUPPLEMENTARY INFORMATION: On December 19, 2014 (79 FR 75867), the Office of Management and Budget published a joint, governmentwide interim rule of all Federal award-making agencies entitled, “Federal Awarding Agency Regulatory Implementation of Office of Management and Budget's Uniform Administrative Requirements, Cost Principles, and Audit Requirements for Federal Awards.” In the joint, governmentwide interim rule, HUD added 2 CFR 2400.101 and amended 24 CFR parts 84 and 85 by removing all substantive provisions and retaining in each part only a cross reference to 2 CFR 2400.101 and a savings provision. The heading for HUD's portion of the governmentwide joint interim rule inadvertently displayed RIN number 2501-AD54, which is incorrect. The correct RIN number for HUD's portion of the governmentwide joint interim rule is 2501-AD66, and this document advises of the correction.

Correction

In FR Doc. 2014-28697 appearing on page 75871 in the Federal Register of Friday, December 19, 2014, make the following correction. On page 75871, in the third column, correct the RIN number for “DEPARTMENT OF HOUSING AND URBAN DEVELOPMENT” to read “2501-AD66”.

Dated: April 2, 2015.
Aaron Santa Anna,
Assistant General Counsel for Regulations.

[FR Doc. 2015-07922 Filed 4-6-15; 8:45 am]

BILLING CODE CODE 4210-67-P